DEPARTMENT OF TRANSPORTATION

Federal Highway Administration

Environmental Impact Statement: Athens and Meigs Counties, Ohio

AGENCY: Federal Highway Administration (FHWA), DOT.

ACTION: Retraction of notice of intent.

SUMMARY: The FHWA is issuing this notice to advise the public of the retraction of the Notice of Intent to prepare an Environmental Impact Statement for a proposed highway project in Athens and Meigs Counties, Ohio, that was originally published in the Federal Register on October 19, 1999.

The FHWA determined environmental studies to document consultations between the Ohio Department of Transportation and FHWA were necessary. Based on these environmental studies, FHWA has determined that potentially significant impacts were avoided and the Finding Of No Significant Impact designation remains valid. An Environmental Impact Statement will not be prepared.

FOR FURTHER INFORMATION, CONTACT: Andreas Garnes, Rural Programs Engineer, Federal Highway Administration, 200 N. High Street, Room 328, Columbus, Ohio 43215, Telephone: (614) 280-6856.

(Catalog of Federal Domestic Assistance Program Number 20.205, Highway Planning and Construction. The regulations implementing Executive Order 12372 regarding intergovernmental consultation on Federal programs and activities apply to this program)
Issued on: November 8, 2000.
Andreas Garnes,
Rural Programs Engineer, Federal Highway Administration, Columbus, Ohio.

[FR Doc. 00-29481 Filed 11-16-00; 8:45 am]

BILLING CODE 4910-22-P